DEPARTMENT OF AGRICULTURE

Animal and Plant Health Inspection Service

7 CFR Part 330

[Docket No. 00-063-3]

Plant Protection Act; Revisions to Authority Citations; Technical Amendment

AGENCY: Animal and Plant Health Inspection Service, USDA.

ACTION: Final rule; technical amendment.

SUMMARY: In a final rule published in the Federal Register and effective on April 27, 2001, we amended the regulations in title 7, chapter III, and title 9, chapter 1, to reflect enactment of the Plant Protection Act (Pub. L. 106-224, 114 Stat. 438, 7 U.S.C. 7701-7772). In the rule, we revised authority citations and removed references to plant protection and quarantine statutes that were repealed by the Plant Protection Act. One of the changes to 7 CFR part 330 was in error. We are amending the regulations in part 330 to correct this error.

EFFECTIVE DATE: April 27, 2001.

FOR FURTHER INFORMATION CONTACT: Ms. Cynthia Howard, Chief, Regulatory Analysis and Development, PPD, APHIS, 4700 River Road Unit 118, Riverdale MD 20737; (301) 734-5957.

SUPPLEMENTARY INFORMATION:

Background

On April 27, 2001, APHIS published a final rule amending the regulations in title 7, chapter III, and title 9, chapter I, to reflect enactment of the Plant Protection Act (Pub. L. 106-224, 114 Stat. 438, 7 U.S.C. 7701-7772). The final rule (66 FR 21049-21064, Docket No. 00-063-2) revised the authority citations to the regulations and removed references to plant protection and quarantine statutes that were repealed by the Plant Protection Act. In a number of instances, the rule added references to the Plant Protection Act in the place of references to the repealed statutes, which included the Plant Quarantine Act (7 U.S.C. 151-164a, 167), the Federal Plant Pest Act (7 U.S.C. 147a note, 150aa et seq.), and others.

One of our changes, to 7 CFR part 330, was in error. In 7 CFR part 330, “Federal Plant Pest Regulations; General; Plant Pests; Soil, Stone, and Quarry Products; Garbage,” we amended § 330.106, “Emergency measures,” by removing a reference to the Plant Quarantine Act and adding in its place a reference to the Plant Protection Act in the following sentence: “This section does not authorize action with respect to any means of conveyance, product, article, or plant pest which, at the time of the proposed action, is subject to disposal under the Plant Quarantine Act.” We should have removed the sentence.

Prior to enactment of the Plant Protection Act, the Plant Quarantine Act authorized the Secretary to take actions to prevent the dissemination of plant pests by nursery stock and other plants and plant products, and the Federal Plant Pest Act, which came later, extended the Secretary's authority to any means of conveyance and other nonplant articles that presented a risk of disseminating plant pests. The regulations in part 330 were promulgated under the authority of the Federal Plant Pest Act. The Federal Plant Pest Act, in its section on emergency measures by the Secretary (7 U.S.C. 150dd), stated that “this subsection shall not authorize such action [meaning emergency measures, including disposal] with respect to any product, article, means of conveyance, or plant pest subject, at the time of the proposed action, to disposal under the Plant Quarantine Act.” The sentence we amended in § 330.106 paralleled this provision.

The Plant Protection Act consolidated our authorities for preventing the dissemination of plant pests into one statute. Thus, the sentence we amended was no longer necessary and should have been removed. This document amends the regulations to remove that sentence.

List of Subjects in 7 CFR Part 330

Customs duties and inspection, Imports, Plant diseases and pests, Quarantine, Reporting and recordkeeping requirements, Transportation.

Accordingly, we are amending 7 CFR part 330 as follows:

PART 330—FEDERAL PLANT PEST REGULATIONS; GENERAL; PLANT PESTS; SOIL, STONE, AND QUARRY PRODUCTS; GARBAGE

1. The authority citation for part 330 continues to read as follows:

Authority: 7 U.S.C. 450, 7701-7772, and 8301-8317; 21 U.S.C. 136 and 136a; 31 U.S.C. 9701; 42 U.S.C. 4331 and 4332; 7 CFR 2.22, 2.80, and 371.3.

§ 330.106 [Amended]

2. In § 330.106, paragraph (a) is amended by removing the sixth sentence.

Done in Washington, DC, this 10th day of March, 2004.
Kevin Shea,
Acting Administrator, Animal and Plant Health Inspection Service.

[FR Doc. 04-5870 Filed 3-15-04; 8:45 am]

BILLING CODE 3410-34-P